DEPARTMENT OF HEALTH AND HUMAN SERVICES

Administration for Children and Families

Submission for OMB Review; Comment Request

Title: Survey on Strategies To Address Barriers and Reduce Delays in Interjurisdictional Placements.

OMB No.: New collection.

Description: The Children's Bureau of the Administration for Children and Families (ACF) is proposing to collect information from 52 State/territory child welfare directors to assess strategies that child welfare agencies have developed to facilitate interjurisdictional placements for children in the child welfare system—primarily abused and neglected children—and to determine the supports and services needed to facilitate these placements. Respondents will be asked to assess the outcome of ACF grants intended to improve the performance of services related to interjurisdictional placements.

The Adoption and Safe Families Act (ASFA) (Pub. L. 105-89) includes new mandates on interjurisdictional resources and removing barriers to the placement of children across State lines. Collecting data from State child welfare agencies about effective strategies for facilitating interjurisdictional placements will help the Children's Bureau support efforts that complement those strategies. Data collected on the benefits and weaknesses of various strategies will help the Children's Bureau plan for future activities. Data will be collected through a web-based survey; respondents will have the option to complete the survey using a paper version.

Respondents: The 52 State/territory child welfare directors.

Annual Burden Estimates
Instrument | Number of respondents | Number of responses per respondent | Average burden hours per response | Total burden hours
Survey on Strategies To Address Barriers and Reduce Delays in Interjurisdictional Placements | 52 | 1 | 10 | 520

Estimated Total Annual Burden Hours: 520

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T.Astrich@omb.eop.gov.

Dated: October 13, 2004.
Robert Sargis,
Reports Clearance Officer.

[FR Doc. 04-23423 Filed 10-19-04; 8:45 am]

BILLING CODE 4148-01-M